DEPARTMENT OF THE INTERIOR

Bureau of Land Management

[LLWY921000, L71220000.EU0000, LVTFK2099100 WYW-184983]

Notice of Intent/Notice of Realty Action: Proposed Resource Management Plan Amendment and Non-Competitive Direct Sale of Public Land in Johnson County, Wyoming

AGENCY: Bureau of Land Management.

ACTION: Notice of intent; notice of Realty Action.

SUMMARY: The Bureau of Land Management (BLM) proposes to amend the September 22, 2015, Buffalo Resource Management Plan (RMP) and prepare an associated Environmental Assessment (EA) to identify and allow the non-competitive (direct) sale of 1.13 acres of public lands in Johnson County, Wyoming, to William D. and Bonnie S. Ross. The purpose of the sale would be to resolve an inadvertent unauthorized use of public lands. The sale would be for no less than the appraised fair market value of $555. The sale is subject to the applicable provisions of Sections 203 of the Federal Land Policy and Management Act of 1976 (FLPMA), as amended, and the BLM land conveyance regulations. Section 203 of FLPMA requires the parcel to meet disposal criteria for sales in Section 202 of FLPMA, and specifically requires the BLM to identify parcels for disposal within the RMP or amend the RMP to establish the disposal criteria in order to dispose of the parcel.

DATES: Interested parties may submit comments regarding the proposed RMP amendment, classification of the land for disposal and the proposed direct sale by December 21, 2020.

ADDRESSES: Written comments concerning this plan amendment and direct sale may be submitted by mail to Field Manager, BLM, Buffalo Field Office, 1425 Fort St., Buffalo, Wyoming 82834 or electronically on BLM's ePlanning website, https://go.usa.gov/xdFUQ.

FOR FURTHER INFORMATION CONTACT: Denise Oliverius, Realty Specialist, BLM, Buffalo Field Office by phone at 307-684-1178 or by email at doliveri@blm.gov. Persons who use a telecommunications device for the deaf may call the Federal Relay Service (FRS) at 1-800-877-8339. The FRS is available 24 hours a day, seven days a week, to leave a message or question with the above individual. You will receive a reply during normal business hours. Project information will also be available on the BLM's ePlanning website: https://go.usa.gov/xdFUQ.

SUPPLEMENTARY INFORMATION: In the 1960s, local landowners misinterpreted the boundaries of their private property and inadvertently built a home site that encroached onto public land. The BLM proposes to segregate the affected land, amend the relevant RMP, and offer the land for direct sale to resolve the issue. The BLM will examine the following described public lands located in Johnson, County, Wyoming, for disposal suitability under the authority of Sections 202 and 203 of FLPMA:

Sixth Principal Meridian, Wyoming

T. 44 N., R. 81 W.,

Sec. 30, parcel A.

The area described contains 1.13 acres.

Upon publication of this Notice in the Federal Register, the public land described above will be segregated from all forms of appropriation under the public land laws, including the mining laws, except for the sale provisions of the FLPMA. The segregation will terminate upon (1) issuance of a conveyance document; (2) publication in the Federal Register terminating the segregation; or (3) on November 4, 2022, unless extended by the BLM Wyoming State Director in accordance with 43 CFR 2711.1-2(d). Until completion of the sale, the BLM will no longer accept land use applications affecting the identified public land in accordance with 43 CFR 2807.15.

The BLM may sell a tract of public land as a result of approved land use planning if the sale of the tract meets the disposal criteria. The 2015 Buffalo RMP does not identify the 1.13 acres of public land in question as suitable for disposal. Therefore, to dispose of the tract, the BLM must amend the RMP to meet the requirements of FLPMA Section 203 through planning. If authorized, the underlying decision will amend the Buffalo RMP, establishing that “such tract, because of its location or other characteristics, is difficult and uneconomic to manage as part of the public lands and is not suitable for management by another Federal department or agency.”

The BLM will analyze the parcel and develop an EA to evaluate the environmental effects of the proposed RMP amendment and the sale criteria under FLPMA Section 203(a)(3) and 43 CFR 2710.0-3(a)(3) to ensure the disposal of the tract will serve important public objectives, including but not limited to relieving BLM authority for a parcel of public land that, because of its location or other characteristics, is difficult and uneconomic to manage as part of the public lands and is not suitable for management by another Federal department or agency. After the BLM has analyzed public scoping comments and prepared the analysis, the EA will be available for a 30-day protest period.

The parcel being considered for direct sale is not required for any other Federal purpose. Regulations contained in 43 CFR 2710.0-6 (c)(3)(iii) and 2711.3-3(a)(5) make allowances for direct sales to resolve inadvertent unauthorized use or occupancy of public land. The BLM will consider selling this parcel if it is determined that the public interest would best be served by selling the 1.13-acre parcel to William D. and Bonnie S. Ross for the fair market value of at least $555 to resolve the inadvertent unauthorized use and ensure the federal government receives fair compensation for the sale of the parcel. The BLM has determined the parcel is not an access point for recreation in accordance with Secretary's Order 3373, Evaluating Public Access in Bureau of Land Management Public Land Disposals and Exchanges. Disposal of this tract will have no anticipated impacts on recreational access to adjacent tracts of publicly accessible lands.

The conveyance document, if issued, will contain the following reservations; excepting and reserving to the United States:

1. A right-of-way thereon for ditches or canals constructed by the authority of the United States, Act of August 30, 1890 (43 U.S.C. 945);

2. All the mineral deposits in the lands so patented pursuant to the Act of October 21, 1976 (43 U.S.C. 1719), including, without limitation, substances subject to disposition under the general mining laws, the general mineral leasing laws, the Materials Act and the Geothermal Steam Act, and to it, its permittees, licensees, lessees, and mining claimants, the right to prospect for, mine and remove the minerals owned by the United States under applicable law an such regulations as the Secretary of the Interior may prescribe. This reservation includes necessary access and exit rights and the right to conduct all necessary and incidental activities including, without limitation, all drilling, underground, open pit or surface mining operations, storage and transportation facilities deemed reasonably necessary.

Unless otherwise provided by separate agreement with the surface owner, mining claimants, permittees, licensees and lessees of the United States shall reclaim disturbed areas to the extent prescribed by regulations issued by the Secretary of the Interior.

All causes of action brought to enforce the rights of the surface owner under the regulations above referred to shall be instituted against mining claimants, permittees, licensees and lessees of the United States; and the United States shall not be liable for the acts or omissions of its mining claimants, permittees, licensees and lessees.

3. An appropriate indemnification clause protecting the United States from claims arising out of the patentee's use, occupancy, or occupation on the patented lands.

The conveyance document, if issued, will be subject to all valid existing rights. The BLM will publish this notice in the Buffalo Bulletin newspaper once a week for three consecutive weeks. Comments will be accepted as discussed in the ADDRESSES section above.

Before including your address, phone number, email address, or other personally identifying information (PII) in your comment, you should be aware that your entire comment—including your PII—may be made publicly available at any time. While you can ask us in your comment to withhold your PII from public review, we cannot guarantee that we will be able to do so. Comments, including names and street addresses of respondents, will be available for public review at the BLM Buffalo Field Office during regular business hours, except holidays.

Any adverse comments regarding the sale will be reviewed by the BLM Wyoming State Director or other authorized official of the Department of the Interior, who may sustain, vacate, or modify this realty action in response to such comments. In the absence of comments, this realty action will become the final determination of the Department of the Interior.

(Authority: 43 CFR 2711)

Kimber Liebhauser,
Acting State Director, Wyoming.

[FR Doc. 2020-24389 Filed 11-3-20; 8:45 am]

BILLING CODE 4310-22-P